DEPARTMENT OF COMMERCE

National Oceanic and Atmospheric Administration

RIN 0648-XE807

Endangered and Threatened Species; Take of Anadromous Fish

AGENCY: National Marine Fisheries Service (NMFS), National Oceanic and Atmospheric Administration (NOAA), Commerce.

ACTION: Issuance of two scientific research permits.

SUMMARY: Notice is hereby given that NMFS has issued scientific research Permit 14808-2M and enhancement Permit 18181-2M to the California Department of Fish and Wildlife (CDFW). The authorized research and monitoring activities are intended to increase knowledge of the species listed under the Endangered Species Act of 1973 (ESA) and to help guide management and conservation efforts. Rescue and relocation efforts are conducted in order to enhance the survival of ESA-listed species.

ADDRESSES: The approved application for each issued permit is available on the Applications and Permits for Protected Species (APPS), https://apps.nmfs.noaa.gov Web site by searching the permit number within the Search Database page. The applications, issued permits and supporting documents are also available upon written request or by appointment: NMFS West Coast Region, 650 Capitol Mall, Suite 5-100, Sacramento, California 95814 (Phone: (916) 930-3600, Fax: (916) 930-3629).

FOR FURTHER INFORMATION CONTACT: Amanda Cranford, Sacramento, CA (Phone: 916-930-3706), Fax: 916-930-3629, email: Amanda.Cranford@noaa.gov).

SUPPLEMENTARY INFORMATION:

Species Covered in This Notice

The following listed species are covered in this notice:

Chinook salmon (Oncorhynchus tshawytscha): threatened Central Valley spring-run (CVSR); endangered Sacramento River winter-run (SRWR).

Steelhead (O. mykiss): threatened California Central Valley (CCV).

North American green sturgeon (Acipenser medisrostris): threatened southern distinct population segment (SDPS).

Authority

Scientific research and enhancement permits are issued in accordance with section 10(a)(1)(A) of the ESA (16 U.S.C. 1531 et seq.) and regulations governing listed fish and wildlife permits (50 CFR parts 222-227). NMFS issues permits based on findings that such permits: (1) Are applied for in good faith; (2) if granted and exercised, would not operate to the disadvantage of the listed species that are the subject of the permit; and (3) are consistent with the purposes and policy of Section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Permits Issued

Permit 14808-2M

A notice of the receipt of an application for the modification of scientific research and enhancement Permit 14808 was published in the Federal Register on August 20, 2015 (80 FR 161). Permit 14808-2M was issued to CDFW on December 9, 2015 and expires on December 31, 2020. Permit 14808-2M authorizes take of CVSR Chinook salmon, SRWR Chinook salmon, CCV steelhead, and SDPS green sturgeon associated with scientific research and monitoring activities in Sacramento River and San Joaquin River basins. The permit modification was requested in order to refine sampling methods, increase take levels and address changes to the proposed procedures. Additionally, CDFW requested that all ongoing research and monitoring be consolidated into a single section 10(a)(1)(A) Permit to improve efficiencies associated with reporting. In addition to the juvenile emigration monitoring at Knights Landing, which aims to compile information on timing, composition (species/run), and relative abundance of juvenile Chinook salmon and steelhead emigrating from the Upper Sacramento River system into the Sacramento-San Joaquin Delta, CDFW requested that the following research and monitoring efforts be included under Permit 14808-2M: (1) The Central Valley Steelhead Monitoring Program, that includes studies targeting CCV steelhead throughout the Sacramento River and San Joaquin River basins in order to examine the distribution, abundance, and population trends of CCV steelhead and provide the data necessary to help assess progress towards restoration and recovery goals; and (2) the Upper Sacramento River Restoration Site Monitoring, which will establish baseline use at proposed restoration sites to help determine the success once restoration projects are implemented through juvenile presence/absence surveys at various sites within the Upper Sacramento River.

Permit 18181-2M

A notice of the receipt of an application for the modification of enhancement Permit 18181 was published in the Federal Register on August 20, 2015 (80 FR 161). Permit 18181-2M was issued to CDFW on December 9, 2015 and expires on December 31, 2020. Permit 18181-2M authorizes take of CVSR Chinook salmon, SRWR Chinook salmon, CCV steelhead, and SDPS green sturgeon associated with enhancement activities in the Upper Sacramento River and associated tributaries in Shasta and Tehama counties, the Colusa Basin Drainage Canal (CBDC), Wallace and Fremont weirs in the Yolo Bypass, and Tisdale Weir in the Sutter Bypass. Permit 18181-2M includes additional rescue and monitoring efforts that routinely occur throughout California's Central Valley. Further, after conducting capture and relocation activities within the CBDC and at Wallace Weir, the project description, sampling methodologies and take estimates have been refined to better reflect the current rescue and enhancement operations. The primary purpose of this monitoring is to assess entrainment of ESA-listed salmonids and SDPS green sturgeon resulting from extreme environmental conditions and complex water operations within California's Central Valley. CDFW will assess the conditions leading to entrainment and determine whether rescue and relocation activities are warranted. The rescue and relocation efforts authorized under Permit 18181-2M are: (1) The CBDC Trapping and Relocation Operation, which aims to trap and relocate adult Chinook salmon and other species of management concern before they enter and become entrained within the CDBC; (2) Monitoring of Sacramento River Flood Control Project Weirs and Flood Relief Structures, where bypasses are surveyed after high flow events to determine the level of entrainment and if warranted rescues will be conducted, with a specific focus on Tisdale and Fremont weirs in the Sacramento River basin; and (3) Upper Sacramento River Redd Dewatering Surveys and Rescue of Stranded Juvenile Winter-run Chinook Salmon, which allows CDFW biologists to predict the flow at which redds will be dewatered on a redd-by-redd basis and conduct rescues if necessary.

Dated: August 15, 2016.
Donna S. Wieting,
Director, Office of Protected Resources, National Marine Fisheries Service.

[FR Doc. 2016-19891 Filed 8-19-16; 8:45 am]

BILLING CODE 3510-22-P